DEPARTMENT OF JUSTICE

Notice of Proposed Consent Decree Pursuant to the Comprehensive Environmental Response, Compensation and Liability Act

Notice is hereby given that on September 18, 2007, a proposed consent decree in United States v. Theochem Laboratories, Inc. et al., Civil Action No. 4:06-cv-00214, was lodged with the United States District Court for the Northern District of Florida.

In this action, filed pursuant to the Comprehensive Environmental Response, Compensation and Liability Act, the United States sought reimbursement of its remaining outstanding incurred response costs relating to the Davis Refining Superfund Site, which is located in Tallahassee, Florida. The United States Department of Justice, on behalf of the United States Environmental Protection Agency, has reached a settlement with Theochem Laboratories, Inc. (“Theochem”) regarding the filed claim. Pursuant to the Consent Decree, the United States will recover $175,000 from Theochem.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to the Consent Decree between the United States and Theochem Laboratories, Inc., DOJ Ref. No. 90-11-3-08056/2.

The proposed Consent Decree may be examined at the United States Attorney's Office, Northern District of Florida, 111 N. Adams Street, 4th Floor, Tallahassee, FL 32301, and at the United States Environmental Protection Agency, Region 4, 61 Forsyth Street, SW., Atlanta, GA 30303. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library please enclose a check in the amount of $5.50 (25 cents per page reproduction cost) payable to the U.S. Treasury or, if by e-mail or fax, forward a check in that amount to the Consent Decree Library at the stated address.

Henry S. Friedman,
Assistant Section Chief, Environmental Enforcement Section, Environment and Natural Resources Division.

[FR Doc. 07-5415 Filed 10-30-07; 8:45 am]

BILLING CODE 4410-15-M